DEPARTMENT OF COMMERCE

Patent and Trademark Office

National Medal of Technology and Innovation Nomination Application

ACTION: New collection; comment request.

SUMMARY: The United States Patent and Trademark Office (USPTO), as part of its continuing effort to reduce paperwork and respondent burden, invites the general public and other Federal agencies to take this opportunity to comment on this new information collection, as required by the Paperwork Reduction Act of 1995, Public Law 104-13 (44 U.S.C. 3506(c)(2)(A)).

DATES: Written comments must be submitted on or before December 1, 2008.

ADDRESSES: You may submit comments by any of the following methods:

• E-mail: Susan.Fawcett@uspto.gov. Include “0651-00xx NMTI collection comment” in the subject line of the message.

• Fax: 571-273-0112, marked to the attention of Susan K. Fawcett.

• Mail: Susan K. Fawcett, Records Officer, Office of the Chief Information Officer, Customer Information Services Group, Public Information Services Division, U.S. Patent and Trademark Office, P.O. Box 1450, Alexandria, VA 22313-1450.

• Federal Rulemaking Portal: http://www.regulations.gov.

FOR FURTHER INFORMATION CONTACT: Requests for additional information should be directed to the attention of Jennifer Lo, Program Manager, United States Patent and Trademark Office, P.O. Box 1450, Alexandria, VA 22313-1450; by telephone at 571-272-7640; or by e-mail at nmti@uspto.gov with “Paperwork” in the subject line.

SUPPLEMENTARY INFORMATION:

I. Abstract

The Competes Act of 2007 abolished the Technology Administration of the Department of Commerce as of August 9, 2007 (sec. 3002). The administration and nomination processing for the National Medal of Technology has been officially transferred by the Commerce Secretary to the United States Patent and Trademark Office (USPTO).

The USPTO is requesting the approval of the new version of the former Technology Administration's nomination form to be officially incorporated into the USPTO information collection inventory.

The National Medal of Technology is the highest honor awarded by the President of the United States to America's leading innovators. Established by an Act of Congress in 1980, the Medal of Technology was first awarded in 1985. The Medal is given annually to individuals, teams, and/or companies/divisions for their outstanding contributions to the Nation's economic, environmental and social well-being through the development and commercialization of technology products, processes and concepts, technological innovation, and development of the Nation's technological manpower.

The purpose of the National Medal of Technology is to recognize those who have made lasting contributions to America's competitiveness, standard of living, and quality of life through technological innovation, and to recognize those who have made substantial contributions to strengthening the Nation's technological workforce. By highlighting the national importance of technological innovation, the Medal also seeks to inspire future generations of Americans to prepare for and pursue technical careers to keep America at the forefront of global technology and economic leadership.

The National Medal of Technology and Innovation Nomination Evaluation Committee, a distinguished, independent committee appointed by the Secretary of Commerce, reviews and evaluates the merit of all candidates nominated through an open, competitive solicitation process. The committee makes its recommendations for Medal candidates to the Secretary of Commerce, who in turn makes recommendations to the President for final selection. The National Medal of Technology and Innovation Laureates are announced by the White House and the Department of Commerce once the Medalists are notified of their selection.

The public uses the National Medal of Technology and Innovation Nomination Application to recognize through nomination an individual's or company's extraordinary leadership and innovation in technological achievement. The application must be accompanied by six letters of recommendation or support from individuals who have first-hand knowledge of the cited achievement(s).

II. Method of Collection

The nomination application and instructions can be downloaded from the USPTO Web site. Nomination files should be submitted by electronic mail. Alternatively, letters of recommendation may be sent by electronic mail, fax or overnight delivery.

III. Data

OMB Number: 0651-00xx.

Form Number(s): None.

Type of Review: New information collection.

Affected Public: Primarily business or other for-profit organizations; not-for-profit institutions; individuals or households.

Estimated Number of Respondents: 26 responses per year.

Estimated Time Per Response: The USPTO estimates that it will take approximately 40 hours to gather the necessary information, prepare the nomination form, write the recommendations, and submit the request for the nomination to the USPTO. This collection contains one form.

Estimated Total Annual Respondent Burden Hours: 1,040 hours per year.

Estimated Total Annual Respondent Cost Burden: $36,067. The USPTO is calculating an estimated respondent hourly rate through an estimate of earnings obtained from the Bureau of Labor Statistics, Occupational Outlook Handbook, 2008-09 edition. The USPTO estimates that half of the submissions will be filed by public relations specialists and half by research engineers. The USPTO estimates that it will cost public relations specialists $23.68 per hour and research engineers $45.68 per hour, for an average hourly rate of $34.68. Considering these factors, the USPTO estimates $36,067 per year for labor costs associated with respondents.

Item | Estimated time for response | Estimated annual responses | Estimated annual burden hours
National Medal of Technology and Innovation Nomination Form | 40 hours | 26 | 1,040
Total |  | 26 | 1,040

Estimated Total Annual (Non-hour) Respondent Cost Burden: $0.

There are no capital start-up, operation, maintenance or record keeping costs associated with this information collection, and there are no filing fees.

Although it is possible for the public to submit the nominations through regular or express mail, to date no submissions have been received in this manner. The majority of recent submissions have been through electronic mail. The USPTO, therefore, is not calculating an estimate of postage costs associated with this information collection.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Dated: September 25, 2008.
Susan K. Fawcett,
Records Officer, USPTO, Office of the Chief Information Officer, Customer Information Services Group, Public Information Services Division.

[FR Doc. E8-23180 Filed 10-1-08; 8:45 am]

BILLING CODE 3510-16-P